DEPARTMENT OF HEALTH AND HUMAN SERVICES

Administration for Children and Families

Submission for OMB Review; Comment Request

Title: Tracking of the Early Head Start Research and Evaluation Project (EHSRET) Sample.

OMB No.: 0970-0388.

Description: The EHSREP is a longitudinal study originally designed to meet the 1994 requirement for a national evaluation of the Early Head Start program. Child and family assessments were conducted when children were 14 months old, 24 months old, 36 months old, in the spring prior to kindergarten entry, and again in the spring of the sixth year of formal schooling (5th grade for most children). Today, children of the EHSREP are approximately 14-17 years of age (depending on their age at the time of enrollment in the study).

The Administration for Children and Families (ACF) within the Department of Health and Human Services (HHS) is proposing to track the children/families who participated in the Early Head Start Research and Evaluation Project (EHSREP) until the children reach 18 years of age. The purpose of tracking these participants is to maintain up-to-date contact information for the children/families in the event that the ACF determines that a future follow-up to the EHSREP will take place.

Respondents: Participants in the Early Head Start Research and Evaluation Project.

Annual Burden Estimates
Instrument | Total number of respondents | Number of responses per respondent | Average burden hours per response | Total burden hours | Annual burden hours
Tracking Survey | 2533 | 3 | .25 | 1,899 | 633
Administrative Records Consent Form | 1700 | 1 | .08 | 136 | 45

Estimated Total Annual Burden Hours: 678.

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA SUBMISSION@OMB.E0P.GOV, Attn: Desk Officer for the Administration for Children and Families.

Steven M. Hanmer,
OPRE Reports Clearance Officer.

[FR Doc. 2013-03868 Filed 2-20-13; 8:45 am]

BILLING CODE 4184-22-P